DEPARTMENT OF ENERGY

Federal Energy Regulatory Commission

[Docket No. PR18-30-000]

The City of Alexandria, Louisiana v. EnLink LIG, LLC; Notice of Complaint

Take notice that on February 13, 2018, pursuant to Rules 206 and 212 of the Federal Energy Regulatory Commission's (FERC or Commission) Rules of Practice and Procedure, 18 CFR 385.206, and .212 (2017), and the Commission's regulations governing transportation service provided under section 311 of the Natural Gas Policy Act of 1978, 18 CFR part 284, the City of Alexandria, Louisiana (Complainant) filed a formal complaint against EnLink LIG, LLC (EnLink or Respondent) requesting relief from EnLink's alleged violations of its FERC filed Statement of Operating Conditions, all as more fully explained in the complaint.

Complainant certifies that copies of complaint were served on the contact of EnLink as listed on the Commission's list of Corporate Officials, the Office of the General Counsel for the Louisiana Public Service Commission, and the Louisiana Department of Natural Resources.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street, NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on February 20, 2018.

Dated: February 14, 2018.
Kimberly D. Bose,
Secretary.

[FR Doc. 2018-03557 Filed 2-21-18; 8:45 am]

BILLING CODE 6717-01-P